DEPARTMENT OF AGRICULTURE

Food Safety and Inspection Service

[Docket No. FSIS-2009-0004]

Codex Alimentarius Commission: Meeting of the Codex Committee on Food Labeling

AGENCY: Office of the Acting Deputy Under Secretary for Food Safety, USDA.

ACTION: Notice of public meeting and request for comments.

SUMMARY: The Office of the Acting Deputy Under Secretary for Food Safety, U.S. Department of Agriculture (USDA), and the Food and Drug Administration (FDA), U.S. Department of Health and Human Services, are sponsoring a public meeting on April 7, 2009. The objective of the public meeting is to provide information and receive public comments on agenda items and draft United States positions that will be discussed at the 37th Session of the Codex Committee on Food Labeling (CCFL) of the Codex Alimentarius Commission (Codex), which will be held in Calgary, Canada, on May 4 to May 8, 2009. In addition, a Working Group on the Implementation of the World Health Organization (WHO) Global Strategy on Diet, Physical Activity, and Health will meet on May 2, 2009. The Acting Deputy Under Secretary for Food Safety and FDA recognize the importance of providing interested parties the opportunity to obtain background information on the 37th Session of the CCFL and to address items on the agenda.

DATES: The public meeting is scheduled for Tuesday, April 7, 2009, from 1 p.m. to 4 p.m.

ADDRESSES: The public meeting will be held in Room 107A, Jamie Whitten Federal Building, 1200 Independence Ave., SW., Washington, DC 20250. Codex documents related to the 37th Session of the CCFL will be accessible via the World Wide Web at the following address: http://www.codexalimentarius.net/current.asp.

The U.S. Delegate to the CCFL, Dr. Barbara Schneeman, invites U.S. interested parties to submit their comments electronically to the following e-mail address: ccfl@fda.hhs.gov.

FOR FURTHER INFORMATION ABOUT THE 37TH SESSION OF THE CCFL CONTACT: Dr. Michael Wehr, Center for Food Safety and Applied Nutrition, 5100 Paint Branch Parkway, College Park, MD 20740. Phone: (301) 436-1724, Fax: (301) 436-2618, e-mail: michael.wehr@fda.hhs.gov

FOR FURTHER INFORMATION ABOUT THE PUBLIC MEETING CONTACT: Paulo Almeida, U.S. Codex Office, Food Safety and Inspection Service, Room 4861, South Building, 1400 Independence Ave., SW., Washington, DC 20250. Phone (202) 205-7760, Fax: (202) 720-3157.

SUPPLEMENTARY INFORMATION:

Background

The Codex Alimentarius (Codex) was established in 1963 by two United Nations organizations, the Food and Agriculture Organization and the WHO. Through adoption of food standards, codes of practice, and other guidelines developed by its committees, and by promoting their adoption and implementation by governments, Codex seeks to protect the health of consumers and ensure that fair practices are used in trade.

The CCFL drafts provisions on labeling applicable to all foods; considers, amends if necessary, and endorses specific provisions on labeling of draft standards, codes of practice, and guidelines prepared by other Codex committees; studies specific labeling problems assigned to it by the Commission; and studies problems associated with the advertisement of food with particular reference to claims and misleading descriptions. The Committee is chaired by Canada.

Issues To Be Discussed at the Public Meeting

The following items on the agenda for the 37th Session of the CCFL will be discussed during the public meeting:

• Matters Referred to the Committee from other Codex bodies;

• Consideration of Labeling Provisions in Draft Codex Standards;

• Implementation of the WHO Global Strategy on Diet, Physical Activity, and Health: (a) Proposed Draft Revision of the Guidelines on Nutrition Labeling Concerning the List of Nutrients that are Always Declared on a Voluntary or Mandatory Basis; (b) Discussion Paper on Issues Related to Mandatory Nutrition Labeling; (c) Proposed Draft Criteria and Principles for Legibility and Readability of Nutrition Labels; (d) Discussion Paper on Labeling Provisions Dealing with the Food Ingredients Identified in the Global Strategy on Diet, Physical Activity, and Health;

• Guidelines for the Production, Processing, Labeling and Marketing of Organically Produced Foods: Annex 1: Inclusion of Ethylene for Other Products; (b) Deletion of Rotenone from Annex 2;

• Labeling of Foods and Food Ingredients Obtained through Certain Techniques of Genetic Modification and Genetic Engineering; (a) Draft Amendment to the General Standard for the Labeling of Prepackaged Foods: Definitions; (b) Proposed Draft Recommendations for the Labeling of Foods and Food Ingredients Obtained through Certain Techniques of Genetic Modification and Genetic Engineering;

• Editorial Amendments to Codex Texts on Food Labeling;

• Discussion Paper on the Need to Amend the General Standard for the Labeling of Prepackaged Foods in Line with the International Organization of Legal Metrology (OIML) Recommendations Regarding the Declaration of the Quantity of Product in Prepackages; and,

• Discussion Paper on Modified Standardized Common Names Each issue listed will be fully described in documents distributed, or to be distributed, by the Secretariat prior to the meeting. Members of the public may access or request copies of these documents (see ADDRESSES).

Public Meeting

At the April 7, 2009, public meeting, draft U.S. positions on the agenda items will be described and discussed, and attendees will have the opportunity to pose questions and offer comments. Written comments may be offered at the meeting or sent to the U.S. Delegate to the CCFL, Dr. Barbara Schneeman (see ADDRESSES). Written comments should state that they relate to activities of the 37th Session of the CCFL.

Additional Public Notification

Public awareness of all segments of rulemaking and policy development is important. Consequently, in an effort to ensure that minorities, women, and persons with disabilities are aware of this notice, FSIS will announce it online through the FSIS Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC on: March 9, 2009.
Barbara McNiff,
Acting U.S. Manager for Codex Alimentarius.

[FR Doc. E9-5449 Filed 3-12-09; 8:45 am]

BILLING CODE 3410-DM-P